DEPARTMENT OF ENERGY

Federal Energy Regulatory Commission

Combined Notice of Filings #1

Take notice that the Commission received the following exempt wholesale generator filings:

Docket Numbers: EG15-8-000.

Applicants: Duke Energy Miami Fort, LLC.

Description: Notice of Self-Recertification Of Exempt Wholesale Generator Status of Duke Energy Miami Fort, LLC.

Filed Date: 10/30/14.

Accession Number: 20141030-5196.

Comments Due: 5 p.m. ET 11/20/14.

Docket Numbers: EG15-9-000.

Applicants: Duke Energy Zimmer, LLC.

Description: Notice of Self-Recertification Of Exempt Wholesale Generator Status of Duke Energy Zimmer, LLC.

Filed Date: 10/30/14.

Accession Number: 20141030-5197.

Comments Due: 5 p.m. ET 11/20/14.

Docket Numbers: EG15-10-000.

Applicants: NRG Energy, Inc.

Description: Notice of Self-Certification of Exempt Wholesale Generator Status of Spanish Town Estate Solar 1 LLC.

Filed Date: 10/31/14.

Accession Number: 20141031-5153.

Comments Due: 5 p.m. ET 11/21/14.

Take notice that the Commission received the following electric rate filings:

Docket Numbers: ER10-1325-004; ER12-1946-004; ER10-2566-006; ER11-2080-004; ER10-1333-004; ER13-2387-002; ER12-1958-004; ER13-2322-002; ER10-1335-004.

Applicants: CinCap V LLC, Duke Energy Beckjord, LLC, Duke Energy Carolinas, LLC, Duke Energy Commercial Asset Management, Inc., Duke Energy Commercial Enterprises, Inc., Duke Energy Florida, Inc., Duke Energy Piketon, LLC, Duke Energy Progress, Inc., Duke Energy Retail Sales, LLC.

Description: Notice of Change in Status of Duke Energy Southeast MBR Sellers.

Filed Date: 10/31/14.

Accession Number: 20141031-5172.

Comments Due: 5 p.m. ET 11/21/14.

Docket Numbers: ER10-2719-019; ER10-2718-019; ER10-2633-017; ER10-2570-016; ER10-2717-017; ER10-3140-016; ER13-55-007; ER12-911-008.

Applicants: East Coast Power Linden Holding, L.L.C., Cogen Technologies Linden Venture, L.P., Birchwood Power Partners, L.P., Shady Hills Power Company, L.L.C., EFS Parlin Holdings, LLC, Inland Empire Energy Center, LLC, Homer City Generation, L.P., CPV Sentinel, LLC.

Description: Notice of Non-Material Change in Status of the GE Companies.

Filed Date: 10/31/14.

Accession Number: 20141031-5080.

Comments Due: 5 p.m. ET 11/21/14.

Docket Numbers: ER11-4363-004.

Applicants: Osage Wind, LLC.

Description: Notice of Non-Material Change in Status of Osage Wind, LLC.

Filed Date: 10/31/14.

Accession Number: 20141031-5214.

Comments Due: 5 p.m. ET 11/21/14.

Docket Numbers: ER12-348-002.

Applicants: Mercuria Energy America, Inc., Danskammer Energy, LLC, J.P. Morgan Commodities Canada Corporation.

Description: Compliance filing per 35: Revised MBR Tariff to be effective 11/1/2014.

Filed Date: 10/31/14.

Accession Number: 20141031-5101.

Comments Due: 5 p.m. ET 11/21/14.

Docket Numbers: ER13-1079-001.

Applicants: J.P. Morgan Commodities Canada Corporation.

Description: Compliance filing per 35: Notice of Succession to be effective 11/1/2014.

Filed Date: 10/31/14.

Accession Number: 20141031-5071.

Comments Due: 5 p.m. ET 11/21/14.

Docket Numbers: ER15-252-000.

Applicants: Southern California Edison Company.

Description: § 205(d) rate filing per 35.13(a)(2)(iii): LGIA with SGS Antelope Valley Development, LLC to be effective 11/1/2014.

Filed Date: 10/31/14.

Accession Number: 20141031-5001.

Comments Due: 5 p.m. ET 11/21/14.

Docket Numbers: ER15-253-000.

Applicants: Puget Sound Energy, Inc.

Description: § 205(d) rate filing per 35.13(a)(2)(iii): Blaine NITSA SA No 491 Amendment 2 to be effective 10/1/2014.

Filed Date: 10/31/14.

Accession Number: 20141031-5006.

Comments Due: 5 p.m. ET 11/21/14.

Docket Numbers: ER15-254-000.

Applicants: Midcontinent Independent System Operator, Inc.

Description: Midwest Independent Transmission System Operator, Inc. submits Notice of Termination of Generator Interconnection Agreement No. 2243 for Project H062.

Filed Date: 10/30/14.

Accession Number: 20141030-5238.

Comments Due: 5 p.m. ET 11/20/14.

Docket Numbers: ER15-255-000.

Applicants: Duke Energy Beckjord Storage, LLC.

Description: Baseline eTariff Filing per 35.1: Duke Energy Beckjord Storage MBR Application to be effective 12/10/2014.

Filed Date: 10/31/14.

Accession Number: 20141031-5042.

Comments Due: 5 p.m. ET 11/21/14.

Docket Numbers: ER15-256-000.

Applicants: Northern States Power Company, a Minnesota corporation.

Description: Notice of Cancellation of Municipal Interconnection and Interchange Agreements of Northern States Power Company, a Minnesota corporation.

Filed Date: 10/30/14.

Accession Number: 20141030-5252.

Comments Due: 5 p.m. ET 11/20/14.

Docket Numbers: ER15-257-000.

Applicants: ISO New England Inc., New England Power Pool Participants Committee.

Description: § 205(d) rate filing per 35.13(a)(2)(iii): MR1 Chges to Integrate Price-Resp. Demand into Res. Mkts. to be effective 1/12/2015.

Filed Date: 10/31/14.

Accession Number: 20141031-5079.

Comments Due: 5 p.m. ET 11/21/14.

Docket Numbers: ER15-258-000.

Applicants: DATC Path 15, LLC.

Description: Compliance filing per 35: Revised Appendix I 2015 to be effective 1/1/2015.

Filed Date: 10/31/14.

Accession Number: 20141031-5085.

Comments Due: 5 p.m. ET 11/21/14.

Docket Numbers: ER15-259-000.

Applicants: Southern California Edison Company.

Description: § 205(d) rate filing per 35.13(a)(1): 2015 TRBAA Update Filing to be effective 1/1/2015.

Filed Date: 10/31/14.

Accession Number: 20141031-5091.

Comments Due: 5 p.m. ET 11/21/14.

Docket Numbers: ER15-260-000.

Applicants: NSTAR Electric Company.

Description: Initial rate filing per 35.12 HQUS Transfer Agreement (2015-2017) to be effective 1/1/2015.

Filed Date: 10/31/14.

Accession Number: 20141031-5094.

Comments Due: 5 p.m. ET 11/21/14.

Docket Numbers: ER15-261-000.

Applicants: Puget Sound Energy, Inc.

Description: § 205(d) rate filing per 35.13(a)(2)(iii): Tanner NITSA SA No. 543 Amendment 1 to be effective 10/1/2014.

Filed Date: 10/31/14.

Accession Number: 20141031-5097.

Comments Due: 5 p.m. ET 11/21/14.

Docket Numbers: ER15-262-000.

Applicants: Puget Sound Energy, Inc.

Description: § 205(d) rate filing per 35.13(a)(2)(iii): Sumas NITSA SA No 626 Amendment No 1 to be effective 10/1/2014.

Filed Date: 10/31/14.

Accession Number: 20141031-5100.

Comments Due: 5 p.m. ET 11/21/14.

Docket Numbers: ER15-263-000.

Applicants: Puget Sound Energy, Inc.

Description: § 205(d) rate filing per 35.13(a)(2)(iii): Kittitas NITSA SA No 506 Amendment 1 to be effective 10/1/2010.

Filed Date: 10/31/14.

Accession Number: 20141031-5102.

Comments Due: 5 p.m. ET 11/21/14.

Docket Numbers: ER15-264-000.

Applicants: Florida Power & Light Company.

Description: § 205(d) rate filing per 35.13(a)(2)(iii): FPL and GTC NITSA and NOA Service Agreement No. 332 to be effective 1/1/2015.

Filed Date: 10/31/14.

Accession Number: 20141031-5103.

Comments Due: 5 p.m. ET 11/21/14.

Docket Numbers: ER15-265-000.

Applicants: El Paso Electric Company.

Description: Compliance filing per 35: OATT Order No. 676-H Compliance Filing to be effective 2/2/2015.

Filed Date: 10/31/14.

Accession Number: 20141031-5105.

Comments Due: 5 p.m. ET 11/21/14.

Docket Numbers: ER15-266-000.

Applicants: Public Service Company of Colorado.

Description: § 205(d) rate filing per 35.13(a)(2)(iii): 2014-10-31_PSCo Losses Update Filing to be effective 1/1/2014.

Filed Date: 10/31/14.

Accession Number: 20141031-5106.

Comments Due: 5 p.m. ET 11/21/14.

Docket Numbers: ER15-267-000.

Applicants: Georgia Power Company.

Description: Notice of Cancellation of Interchange Contract of Georgia Power Company.

Filed Date: 10/31/14.

Accession Number: 20141031-5124.

Comments Due: 5 p.m. ET 11/21/14.

Docket Numbers: ER15-268-000.

Applicants: Rising Tree Wind Farm LLC.

Description: Initial rate filing per 35.12 Co-Tenancy Agreement to be effective 12/5/2014.

Filed Date: 10/31/14.

Accession Number: 20141031-5139.

Comments Due: 5 p.m. ET 11/21/14.

Docket Numbers: ER15-269-000.

Applicants: Northern States Power Company, a Minnesota corporation.

Description: § 205(d) rate filing per 35.13(a)(2)(iii): 2014-10-31 NSP-ADA, FAX, KSTA, SAUK-NOC to be effective 12/31/2014.

Filed Date: 10/31/14.

Accession Number: 20141031-5140.

Comments Due: 5 p.m. ET 11/21/14.

Docket Numbers: ER15-270-000.

Applicants: Rising Tree Wind Farm II LLC.

Description: Initial rate filing per 35.12 Co-Tenancy Agreement to be effective 12/5/2014.

Filed Date: 10/31/14.

Accession Number: 20141031-5143.

Comments Due: 5 p.m. ET 11/21/14.

Docket Numbers: ER15-271-000.

Applicants: Rising Tree Wind Farm III LLC.

Description: Initial rate filing per 35.12 Co-Tenancy Agreement to be effective 12/5/2014.

Filed Date: 10/31/14.

Accession Number: 20141031-5147.

Comments Due: 5 p.m. ET 11/21/14.

Docket Numbers: ER15-272-000.

Applicants: Nevada Power Company.

Description: § 205(d) rate filing per 35.13(a)(2)(iii): Rate Schedule Nos. 95_96 Navajo Project C-Tenancy_West.Trans.Ops.Agmt Amendments to be effective 11/1/2014.

Filed Date: 10/31/14.

Accession Number: 20141031-5149.

Comments Due: 5 p.m. ET 11/21/14.

Docket Numbers: ER15-273-000.

Applicants: Arizona Public Service Company.

Description: Tariff Withdrawal per 35.15: Notice of Cancellation of Service Agreement No. 329 with City of Azusa to be effective 12/31/2014.

Filed Date: 10/31/14.

Accession Number: 20141031-5161.

Comments Due: 5 p.m. ET 11/21/14.

Docket Numbers: ER15-274-000.

Applicants: Dynegy Oakland, LLC.

Description: § 205(d) rate filing per 35.13(a)(2)(iii): Annual RMR Section 205 Filing and RMR Schedule F Informational Filing to be effective 1/1/2015.

Filed Date: 10/31/14.

Accession Number: 20141031-5182.

Comments Due: 5 p.m. ET 11/21/14.

Docket Numbers: ER15-275-000.

Applicants: PJM Interconnection, L.L.C.

Description: § 205(d) rate filing per 35.13(a)(2)(iii): Second Revised Service Agreement No. 2554; Queue Z1-087 to be effective 10/1/2014.

Filed Date: 10/31/14.

Accession Number: 20141031-5190.

Comments Due: 5 p.m. ET 11/21/14.

Docket Numbers: ER15-276-000.

Applicants: Midcontinent Independent System Operator, Inc., MidAmerican Energy Company.

Description: § 205(d) rate filing per 35.13(a)(2)(iii): 2014-10-31_SA 2701 MidAmerican-RPGI WDS Agreement to be effective 1/1/2015.

Filed Date: 10/31/14.

Accession Number: 20141031-5195.

Comments Due: 5 p.m. ET 11/21/14.

Docket Numbers: ER15-277-000.

Applicants: Midcontinent Independent System Operator, Inc.

Description: § 205(d) rate filing per 35.13(a)(2)(iii): 2014-10-31_Rochester Public Utilities Filing to be effective 1/1/2015.

Filed Date: 10/31/14.

Accession Number: 20141031-5200.

Comments Due: 5 p.m. ET 11/21/14.

Docket Numbers: ER15-278-000.

Applicants: New England Power Pool Participants Committee.

Description: § 205(d) rate filing per 35.13(a)(2)(iii): November 2014 Membership Filing to be effective 11/1/2014.

Filed Date: 10/31/14.

Accession Number: 20141031-5204.

Comments Due: 5 p.m. ET 11/21/14.

Docket Numbers: ER15-279-000.

Applicants: Southwest Power Pool, Inc.

Description: § 205(d) rate filing per 35.13(a)(2)(iii): Central Nebraska Public Power and Irrigation District Stated Rate to be effective 1/1/2015.

Filed Date: 10/31/14.

Accession Number: 20141031-5206.

Comments Due: 5 p.m. ET 11/21/14.

Docket Numbers: ER15-280-000.

Applicants: Maine Electric Power Company, Inc.

Description: § 205(d) rate filing per 35.13(a)(2)(iii): Second Engineering & Procurement Agreement with Number Nine Wind Farm LLC to be effective 10/31/2014.

Filed Date: 10/31/14.

Accession Number: 20141031-5207.

Comments Due: 5 p.m. ET 11/21/14.

Docket Numbers: ER15-281-000.

Applicants: Duke Energy Indiana, Inc.

Description: § 205(d) rate filing per 35.13(a)(1): DEI- Hoosier Energy Amended Facilities Agreement to be effective 1/1/2015.

Filed Date: 10/31/14.

Accession Number: 20141031-5216.

Comments Due: 5 p.m. ET 11/21/14.

Docket Numbers: ER15-282-000.

Applicants: Morgan Stanley Capital Group, Inc.

Description: § 205(d) rate filing per 35.13(a)(2)(iii): Revised Market Based Rate Tariff to be effective 11/1/2014.

Filed Date: 10/31/14.

Accession Number: 20141031-5225.

Comments Due: 5 p.m. ET 11/21/14.

Docket Numbers: ER15-283-000.

Applicants: MS Solar Solutions Corp.

Description: § 205(d) rate filing per 35.13(a)(2)(iii): Revised MBR Tariff to be effective 11/1/2014.

Filed Date: 10/31/14.

Accession Number: 20141031-5226.

Comments Due: 5 p.m. ET 11/21/14.

Docket Numbers: ER15-284-000.

Applicants: Naniwa Energy, LLC.

Description: § 205(d) rate filing per 35.13(a)(2)(iii): Revised MBR Tariff to be effective 11/1/2014.

Filed Date: 10/31/14.

Accession Number: 20141031-5228.

Comments Due: 5 p.m. ET 11/21/14.

Docket Numbers: ER15-285-000.

Applicants: Power Contract Financing II, Inc.

Description: § 205(d) rate filing per 35.13(a)(2)(iii): Revised MBR Tariff to be effective 11/1/2014.

Filed Date: 10/31/14.

Accession Number: 20141031-5229.

Comments Due: 5 p.m. ET 11/2.

Take notice that the Commission received the following electric securities filings:

Docket Numbers: ES15-2-000.

Applicants: National Grid USA, Nantucket Electric Company, The Narragansett Electric Company, New England Power Company, Niagara Mohawk Power Corporation, New England Hydro-Transmission Electric Company, National Grid Generation LLC.

Description: Application of National Grid USA, on behalf of Nantucket Electric Company, et. al., for Authority to Issue Securities.

Filed Date: 10/31/14.

Accession Number: 20141031-5160.

Comments Due: 5 p.m. ET 11/21/14.

Docket Numbers: ES15-3-000.

Applicants: Xcel Energy Southwest Transmission Company, LLC.

Description: Application under Section 204 of the Federal Power Act of Xcel Energy Southwest Transmission Company, LLC.

Filed Date: 10/31/14.

Accession Number: 20141031-5205.

Comments Due: 5 p.m. ET 11/21/14.

Docket Numbers: ES15-4-000.

Applicants: Xcel Energy Transmission Development Company, LLC.

Description: Application under Section 204 of the Federal Power Act of Xcel Energy Transmission Development Company, LLC.

Filed Date: 10/31/14.

Accession Number: 20141031-5217.

Comments Due: 5 p.m. ET 11/21/14.

Take notice that the Commission received the following land acquisition reports:

Docket Numbers: LA14-3-000.

Applicants: Alabama Power Company, Georgia Power Company, Gulf Power Company, Mississippi Power Company, Southern Power Company.

Description: Quarterly Land Acquisition Report of the Southern Companies.

Filed Date: 10/31/14.

Accession Number: 20141031-5171.

Comments Due: 5 p.m. ET 11/21/14.

Take notice that the Commission received the following public utility holding company filings:

Docket Numbers: PH15-4-000.

Applicants: The Goldman Sachs Group, Inc.

Description: The Goldman Sachs Group, Inc. submits FERC 65-B Waiver Notification of Material Change in Facts.

Filed Date: 10/31/14.

Accession Number: 20141031-5129.

Comments Due: 5 p.m. ET 11/21/14.

Take notice that the Commission received the following PURPA 210(m)(3) filings:

Docket Numbers: QM15-1-000.

Applicants: Virginia Electric and Power Company.

Description: Application to Terminate Purchase Obligation of Virginia Electric and Power Company.

Filed Date: 10/31/14.

Accession Number: 20141031-5159.

Comments Due: 5 p.m. ET 11/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2014.
Nathaniel J. Davis, Sr.,
Deputy Secretary.

[FR Doc. 2014-26568 Filed 11-7-14; 8:45 am]

BILLING CODE 6717-01-P